DEPARTMENT OF ENERGY

Federal Energy Regulatory Commission

[Docket No. RP05-52-000]

Great Lakes Gas Transmission Limited Partnership; Notice of Proposed Changes in FERC Gas Tariff

November 2, 2004.

Take notice that on October 29, 2004, Great Lakes Gas Transmission Limited Partnership (Great Lakes) tendered for filing as part of its FERC Gas Tariff, Second Revised Volume No. 1, the following tariff sheets, to become effective December 1, 2004:

Eighteenth Revised Sheet No. 1

First Revised Sheet No. 9A

Ninth Revised Sheet No. 10

Third Revised Sheet No. 14A

Sixth Revised Sheet No. 16

Fifth Revised Sheet No. 16A

Fifth Revised Sheet No. 29

Fourth Revised Sheet No. 39B

Eleventh Revised Sheet No. 40

Ninth Revised Sheet No. 40A

Seventh Revised Sheet No. 40B

First Revised Sheet No. 40C

Twelfth Revised Sheet No. 41

Ninth Revised Sheet No. 42

Third Revised Sheet No. 50L

Great Lakes states that these tariff sheets are being filed to incorporate administrative, clarifying, and conforming changes to Great Lakes' tariff. Great Lakes states that none of the proposed changes will affect any of Great Lakes' currently effective rates and charges.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-3109 Filed 11-9-04; 8:45 am]

BILLING CODE 6717-01-P